NUCLEAR REGULATORY COMMISSION

[Docket No. 72-26; NRC-2009-0569]

Notice of Docketing of Amendment Request for Material License SNM-2511; Pacific Gas and Electric Company; Diablo Canyon Independent Spent Fuel Storage Installation

AGENCY: Nuclear Regulatory Commission.

ACTION: Notice of Docketing of Amendment Request for Materials License SNM-2511.

FOR FURTHER INFORMATION CONTACT: John Goshen, Project Manager, Licensing Branch, Division of Spent Fuel Storage and Transportation, Office of Nuclear Material Safety and Safeguards, U.S. Nuclear Regulatory Commission, Washington, DC 20555-0001. Telephone: (301) 492-3325; fax number: (301) 492-3348; e-mail: john.goshen@nrc.gov.

SUPPLEMENTARY INFORMATION:

I. Introduction

The U.S. Nuclear Regulatory Commission (NRC or Commission) is considering an application dated April 7, 2008, from Pacific Gas and Electric Company (PG&E) to amend its Special Nuclear Material License No. SNM-2511, under the provisions of 10 CFR Part 72, for the receipt, possession, storage and transfer of spent fuel, reactor-related Greater than Class C waste and other radioactive materials associated with spent fuel storage at the Diablo Canyon Independent Spent Fuel Storage Installation (ISFSI), located at the Diablo Canyon Nuclear Power Plant, Unit Nos. 1 and 2 site in San Luis Obispo County, California. If granted, the amendment will revise the technical specifications (TS) as follows:

1. Revise TS 3.1.1, “Multi-Purpose Canister (MPC),” to clarify the required helium leak rate condition and the leak rate testing requirements;

2. Delete TS 3.1.4, “Spent Fuel Storage Cask (SFSC) Time Limitation in Cask Transfer Facility (CTF),” based on analysis of the thermal performance of the Holtec HI-STORM 100 system which shows there is no need for a required time limitation in the CTF;

3. Revise TS 3.2.1, “Dissolved Boron Concentration,” to modify the dissolved boron concentrations required for MPC-32 canisters and, to allow linear interpolation for some enrichments consistent with the Holtec International (Holtec) Certificate of Compliance (CoC) No. 1014, Amendment 3, for the HI-STORM 100 system;

4. Add a note to both surveillance requirements of TS 3.2.1 to limit the monitoring requirement consistent with the Holtec CoC No. 1014, Amendment 1, for the HI-STORM 100 system;

5. Revise TS 4.1.1.a, b, and c, “Design Features Significant to Safety,” to allow use of Metamic Boron-10 as a neutron absorber for each of the specified MPC consistent with Holtec CoC No.1014, Amendment 2, for the HI-STORM 100 system, and add TS 4.1.2, “Design Features Important to Criticality Control,” to define the material and testing requirements for the use of Metamic;

6. Change the title of TS 4.3.4.a, “Permanent Load Handling Equipment,” to “Weldment and Reinforced Concrete,” which more correctly reflect the subject of the TS subparagraphs;

7. Revise TS 4.3.4.b, “Mobile Load Handling Equipment,” to replace the term “permanent load handling equipment” with the term “the cask transporter,” as the transporter is not considered a mobile load handling equipment within the context of TS 4.3.4.b; and

8. Revise item b of TS 5.1.3, “MPC and SFSC Loading, Unloading, and Preparation Program,” to clarify the maintenance of the required conditions in the annular gap between the MPC and the transfer cask depending on which drying process is used and fuel heat load during MPC loading or unloading operations.

This application was docketed under 10 CFR 72.16; the ISFSI Docket No. is 72-26 and will remain the same for this action. The NRC inadvertently failed to promptly publish this notice of docketing in the Federal Register after the NRC's receipt of the PG&E April 7, 2008, license amendment request. All other procedural requirements in Part 72 will be met as the NRC continues to process this license amendment request (see section II of this notice, “Opportunity to Request a Hearing”).

The Commission will approve the license amendment if it determines that the application meets the standards and requirements of the Atomic Energy Act of 1954, as amended (the Act) and the Commission's regulations, and pursuant to 10 CFR 72.58, the findings required by 10 CFR 72.40. These findings will be documented in a Safety Evaluation Report.

II. Opportunity To Request a Hearing

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

III. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession number for the document related to this notice is ML081070073. If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's PDR, O1 F21, One White Flint North, 11555 Rockville Pike, Rockville, MD 20852. The PDR reproduction contractor will copy documents for a fee.

Dated at Rockville, Maryland, this 15th day of December 2009.
For The Nuclear Regulatory Commission.
John Goshen, P.E.,
Project Manager, Licensing Branch, Division of Spent Fuel Storage and Transportation, Office of Nuclear Material Safety and Safeguards.

[FR Doc. E9-30618 Filed 12-24-09; 8:45 am]

BILLING CODE 7590-01-P